DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[DOT-OST-1999-5129]

Department Regulatory Agenda; Semiannual Summary

AGENCY: Office of the Secretary, DOT.

ACTION: Semiannual regulatory agenda.

SUMMARY: The Regulatory Agenda is a semiannual summary of all current and projected rulemakings, reviews of existing regulations, and completed actions of the Department. The intent of the Agenda is to provide the public with information about the Department of Transportation's regulatory activity planned for the next 12 months. It is expected that this information will enable the public to more effectively participate in the Department's regulatory process. The public is also invited to submit comments on any aspect of this Agenda.

FOR FURTHER INFORMATION CONTACT:

General

You should direct all comments and inquiries on the Agenda in general to Jonathan Moss, Assistant General Counsel for Regulation, Department of Transportation, 1200 New Jersey Avenue SE., Washington, DC 20590; (202) 366-4723.

Specific

You should direct all comments and inquiries on particular items in the Agenda to the individual listed for the regulation or the general rulemaking contact person for the operating administration in appendix B.

Table of Contents

Supplementary Information:

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements

SUPPLEMENTARY INFORMATION:

Background

Improvement of our regulations is a prime goal of the Department of Transportation (Department or DOT). Our regulations should be clear, simple, timely, fair, reasonable, and necessary. They should not be issued without appropriate involvement of the public; once issued, they should be periodically reviewed and revised, as needed, to ensure that they continue to meet the needs for which they originally were designed. To view additional information about the Department's regulatory activities online, go to http://www.dot.gov/regulations. Among other things, this Web site provides a report updated monthly on the status of the DOT significant rulemakings listed in the semiannual regulatory agenda.

To help the Department achieve its goals and in accordance with Executive Order (E.O.) 12866, “Regulatory Planning and Review,” (58 FR 51735; Oct. 4, 1993) and the Department's Regulatory Policies and Procedures (44 FR 11034; Feb. 26, 1979), the Department prepares a semiannual regulatory agenda. It summarizes all current and projected rulemakings, reviews of existing regulations, and completed actions of the Department. These are matters on which action has begun or is projected during the next 12 months or for which action has been completed since the last Agenda.

The Agendas are based on reports submitted by the offices initiating the rulemaking and are reviewed by OST.

The Internet is the basic means for disseminating the Unified Agenda. The complete Unified Agenda is available online at www.reginfo.gov in a format that offers users a greatly enhanced ability to obtain information from the Agenda database.

Because publication in the Federal Register is mandated for the regulatory flexibility agendas required by the Regulatory Flexibility Act (5 U.S.C. 602), DOT's printed Agenda entries include only:

1. The agency's Agenda preamble;

2. Rules that are in the agency's regulatory flexibility agenda, in accordance with the Regulatory Flexibility Act, because they are likely to have a significant economic impact on a substantial number of small entities; and

3. Any rules that the agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list, see section heading “Explanation of Information on the Agenda”) on these entries is available in the Unified Agenda published on the Internet.

Significant Rulemakings

The Agenda covers all rules and regulations of the Department. We have classified rules as significant in the Agenda if they are, essentially, very beneficial, controversial, or of substantial public interest under our Regulatory Policies and Procedures. All DOT significant rulemaking documents are subject to review by the Secretary of Transportation. If the Office of Management and Budget (OMB) decided a rule is subject to its review under Executive Order 12866, we have also classified it as significant in the Agenda.

Explanation of Information on the Agenda

An Office of Management and Budget memorandum, dated August 13, 2015, requires the format for this Agenda.

First, the Agenda is divided by initiating offices. Then the Agenda is divided into five categories: (1) Prerule stage, (2) proposed rule stage, (3) final rule stage, (4) long-term actions, and (5) completed actions. For each entry, the Agenda provides the following information: (1) Its “significance”; (2) a short, descriptive title; (3) its legal basis; (4) the related regulatory citation in the Code of Federal Regulations; (5) any legal deadline and, if so, for what action (e.g., NPRM, final rule); (6) an abstract; (7) a timetable, including the earliest expected date for when a rulemaking document may publish; (8) whether the rulemaking will affect small entities and/or levels of Government and, if so, which categories; (9) whether a Regulatory Flexibility Act (RFA) analysis is required (for rules that would have a significant economic impact on a substantial number of small entities); (10) a listing of any analyses an office will prepare or has prepared for the action (with minor exceptions, DOT requires an economic analysis for all its rulemakings); (11) an agency contact office or official who can provide further information; (12) a Regulation Identifier Number (RIN) assigned to identify an individual rulemaking in the Agenda and facilitate tracing further action on the issue; (13) whether the action is subject to the Unfunded Mandates Reform Act; (14) whether the action is subject to the Energy Act; and (15) whether the action is major under the congressional review provisions of the Small Business Regulatory Enforcement Fairness Act. If there is information that does not fit in the other categories, it will be included under a separate heading entitled “Additional Information.” One such example of this is the letters “SB,” “IC,” and “SLT.” These refer to information used as part of our required reports on Retrospective Review of DOT rulemakings. A “Y” or an “N,” for yes and no, respectively, follow the letters to indicate whether or not a particular rulemaking would have effects on: Small businesses (SB); information collections (IC); or State, local, or tribal (SLT) governments.

For nonsignificant regulations issued routinely and frequently as a part of an established body of technical requirements (such as the Federal Aviation Administration's Airspace Rules), to keep those requirements operationally current, we only include the general category of the regulations, the identity of a contact office or official, and an indication of the expected number of regulations; we do not list individual regulations.

In the “Timetable” column, we use abbreviations to indicate the particular documents being considered. ANPRM stands for Advance Notice of Proposed Rulemaking, SNPRM for Supplemental Notice of Proposed Rulemaking, and NPRM for Notice of Proposed Rulemaking. Listing a future date in this column does not mean we have made a decision to issue a document; it is the earliest date on which a rulemaking document may publish. In addition, these dates are based on current schedules. Information received after the issuance of this Agenda could result in a decision not to take regulatory action or in changes to proposed publication dates. For example, the need for further evaluation could result in a later publication date; evidence of a greater need for the regulation could result in an earlier publication date.

Finally, a dot (•) preceding an entry indicates that the entry appears in the Agenda for the first time.

Request for Comments

General

Our agenda is intended primarily for the use of the public. Since its inception, we have made modifications and refinements that we believe provide the public with more helpful information, as well as making the Agenda easier to use. We would like you, the public, to make suggestions or comments on how the Agenda could be further improved.

Reviews

We also seek your suggestions on which of our existing regulations you believe need to be reviewed to determine whether they should be revised or revoked. We particularly draw your attention to the Department's review plan in appendix D. In response to Executive Order 13563 “Retrospective Review and Analysis of Existing Rules,” in 2011 we prepared a retrospective review plan providing more detail on the process we use to conduct reviews of existing rules, including changes in response to Executive Order 13563. Any updates related to our retrospective plan and review results can be found at http://www.dot.gov/regulations.

Regulatory Flexibility Act

The Department is especially interested in obtaining information on requirements that have a “significant economic impact on a substantial number of small entities” and, therefore, must be reviewed under the Regulatory Flexibility Act. If you have any suggested regulations, please submit them to us, along with your explanation of why they should be reviewed.

In accordance with the Regulatory Flexibility Act, comments are specifically invited on regulations that we have targeted for review under section 610 of the Act. The phrase (sec. 610 Review) appears at the end of the title for these reviews. Please see appendix D for the Department's section 610 review plans.

Consultation With State, Local, and Tribal Governments

Executive Orders 13132 and 13175 require us to develop an accountable process to ensure “meaningful and timely input” by State, local, and tribal officials in the development of regulatory policies that have federalism or tribal implications. These policies are defined in the Executive orders to include regulations that have “substantial direct effects” on States or Indian tribes, on the relationship between the Federal Government and them, or on the distribution of power and responsibilities between the Federal Government and various levels of Government or Indian tribes. Therefore, we encourage State and local Governments or Indian tribes to provide us with information about how the Department's rulemakings impact them.

Purpose

The Department is publishing this regulatory Agenda in the Federal Register to share with interested members of the public the Department's preliminary expectations regarding its future regulatory actions. This should enable the public to be more aware of the Department's regulatory activity and should result in more effective public participation. This publication in the Federal Register does not impose any binding obligation on the Department or any of the offices within the Department with regard to any specific item on the Agenda. Regulatory action, in addition to the items listed, is not precluded.

Dated: October 8, 2015.
Anthony R. Foxx,
Secretary of Transportation.

Appendix A—Instructions for Obtaining Copies of Regulatory Documents

To obtain a copy of a specific regulatory document in the Agenda, you should communicate directly with the contact person listed with the regulation at the address below. We note that most, if not all, such documents, including the Semiannual Regulatory Agenda, are available through the Internet at http://www.regulations.gov. See appendix C for more information.

(Name of contact person), (Name of the DOT agency), 1200 New Jersey Avenue SE., Washington, DC 20590. (For the Federal Aviation Administration, substitute the following address: Office of Rulemaking, ARM-1, 800 Independence Avenue SW., Washington, DC 20591).

Appendix B—General Rulemaking Contact Persons

The following is a list of persons who can be contacted within the Department for general information concerning the rulemaking process within the various operating administrations.

FAA—Lirio Liu, Director, Office of Rulemaking, 800 Independence Avenue SW., Washington, DC 20591; telephone (202) 267-7833.

FHWA—Jennifer Outhouse, Office of Chief Counsel, 1200 New Jersey Avenue SE., Washington, DC 20590; telephone (202) 366-0761.

FMCSA—Steven J. LaFreniere, Regulatory Ombudsman, 1200 New Jersey Avenue SE., Washington, DC 20590; telephone (202) 366-0596.

NHTSA—Steve Wood, Office of Chief Counsel, 1200 New Jersey Avenue SE., Washington, DC 20590; telephone (202) 366-2992.

FRA—Kathryn Gresham, Office of Chief Counsel, 1200 New Jersey Avenue SE., Washington, DC 20590; telephone (202) 493-6063.

FTA—Bonnie Graves, Office of Chief Counsel, 1200 New Jersey Avenue SE., Washington, DC 20590; telephone (202) 366-4011.

SLSDC—Carrie Mann Lavigne, Chief Counsel, 180 Andrews Street, Massena, NY 13662; telephone (315) 764-3200.

PHMSA—Karin Christian, Office of Chief Counsel, 1200 New Jersey Avenue SE., Washington, DC 20590; telephone (202) 366-4400.

MARAD—Christine Gurland, Office of Chief Counsel, Maritime Administration, 1200 New Jersey Avenue SE., Washington, DC 20590; telephone (202) 366-5157.

OST—Jonathan Moss, Assistant General Counsel for Regulation, 1200 New Jersey Avenue SE., Washington, DC 20590; telephone (202) 366-4723.

Appendix C—Public Rulemaking Dockets

All comments via the Internet are submitted through the Federal Docket Management System (FDMS) at the following address: http://www.regulations.gov. The FDMS allows the public to search, view, download, and comment on all Federal agency rulemaking documents in one central online system. The above referenced Internet address also allows the public to sign up to receive notification when certain documents are placed in the dockets.

The public also may review regulatory dockets at or deliver comments on proposed rulemakings to the Dockets Office at 1200 New Jersey Avenue SE. Room W12-140, Washington, DC 20590, 1-800-647-5527. Working Hours: 9:00 a.m. to 5:00 p.m.

Appendix D—Review Plans for Section 610 and Other Requirements

Part I—The Plan

General

The Department of Transportation has long recognized the importance of regularly reviewing its existing regulations to determine whether they need to be revised or revoked. Our Regulatory Policies and Procedures require such reviews. We also have responsibilities under Executive Order 12866, “Regulatory Planning and Review,” and section 610 of the Regulatory Flexibility Act to conduct such reviews. This includes the use of plain language techniques in new rules and considering its use in existing rules when we have the opportunity and resources to permit its use. We are committed to continuing our reviews of existing rules and, if it is needed, will initiate rulemaking actions based on these reviews.

In accordance with Executive Order 13563, “Improving Regulation and Regulatory Review,” issued by the President on January 18, 2011, the Department has added other elements to its review plan. The Department has decided to improve its plan by adding special oversight processes within the Department, encouraging effective and timely reviews, including providing additional guidance on particular problems that warrant review, and expanding opportunities for public participation. These new actions are in addition to the other steps described in this appendix.

Section 610 Review Plan

Section 610 requires that we conduct reviews of rules that: (1) Have been published within the last 10 years, and (2) have a “significant economic impact on a substantial number of small entities” (SEIOSNOSE). It also requires that we publish in the Federal Register each year a list of any such rules that we will review during the next year. The Office of the Secretary and each of the Department's Operating Administrations have a 10-year review plan. These reviews comply with section 610 of the Regulatory Flexibility Act.

Changes to the Review Plan

Some reviews may be conducted earlier than scheduled. For example, to the extent resources permit, the plain language reviews will be conducted more quickly. Other events, such as accidents, may result in the need to conduct earlier reviews of some rules. Other factors may also result in the need to make changes; for example, we may make changes in response to public comment on this plan or in response to a presidentially mandated review. If there is any change to the review plan, we will note the change in the following Agenda. For any section 610 review, we will provide the required notice prior to the review.

Part II—The Review Process

The Analysis

Generally, the agencies have divided their rules into 10 different groups and plan to analyze one group each year. For purposes of these reviews, a year will coincide with the fall-to-fall schedule for publication of the Agenda. Thus, Year 1 (2008) begins in the fall of 2008 and ends in the fall of 2009; Year 2 (2009) begins in the fall of 2009 and ends in the fall of 2010, and so on. We request public comment on the timing of the reviews. For example, is there a reason for scheduling an analysis and review for a particular rule earlier than we have? Any comments concerning the plan or particular analyses should be submitted to the regulatory contacts listed in appendix B, General Rulemaking Contact Persons.

Section 610 Review

The agency will analyze each of the rules in a given year's group to determine whether any rule has a SEIOSNOSE and, thus, requires review in accordance with section 610 of the Regulatory Flexibility Act. The level of analysis will, of course, depend on the nature of the rule and its applicability. Publication of agencies' section 610 analyses listed each fall in this Agenda provides the public with notice and an opportunity to comment consistent with the requirements of the Regulatory Flexibility Act. We request that public comments be submitted to us early in the analysis year concerning the small entity impact of the rules to help us in making our determinations.

In each fall Agenda, the agency will publish the results of the analyses it has completed during the previous year. For rules that had a negative finding on SEIOSNOSE, we will give a short explanation (e.g., “these rules only establish petition processes that have no cost impact” or “these rules do not apply to any small entities”). For parts, subparts, or other discrete sections of rules that do have a SEIOSNOSE, we will announce that we will be conducting a formal section 610 review during the following 12 months. At this stage, we will add an entry to the Agenda in the prerulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The agency will also examine the specified rules to determine whether any other reasons exist for revising or revoking the rule or for rewriting the rule in plain language. In each fall Agenda, the agency will also publish information on the results of the examinations completed during the previous year.

Part III—List of Pending Section 610 Reviews

The Agenda identifies the pending DOT section 610 Reviews by inserting “(Section 610 Review)” after the title for the specific entry. For further information on the pending reviews, see the Agenda entries at www.reginfo.gov. For example, to obtain a list of all entries that are in section 610 Reviews under the Regulatory Flexibility Act, a user would select the desired responses on the search screen (by selecting “advanced search”) and, in effect, generate the desired “index” of reviews.

Office of the Secretary

Section 610 and Other Reviews

Year | Regulations to be reviewed | Analysis year | Review year
1 | 49 CFR parts 91 through 99 and 14 CFR parts 200 through 212 | 2008 | 2009
2 | 48 CFR parts 1201 through 1253 and new parts and subparts | 2009 | 2010
3 | 14 CFR parts 213 through 232 | 2010 | 2011
4 | 14 CFR parts 234 through 254 | 2011 | 2012
5 | 14 CFR parts 255 through 298 and 49 CFR part 40 | 2012 | 2013
6 | 14 CFR parts 300 through 373 | 2013 | 2014
7 | 14 CFR parts 374 through 398 | 2014 | 2015
8 | 14 CFR part 399 and 49 CFR parts 1 through 11 | 2015 | 2016
9 | 49 CFR parts 17 through 28 | 2016 | 2017
10 | 49 CFR parts 29 through 39 and parts 41 through 89 | 2017 | 2018

Year 8 (2015) List of Rules That Will Be Analyzed During the Next Year

14 CFR part 399—Fees and Charges for Special Services

49 CFR part 1—Organization and Delegation of Power and Duties

49 CFR part 3—Official Seal

49 CFR part 5—Rulemaking Procedures

49 CFR part 6—Implementation of Equal Access to Justice Act in Agency Proceedings

49 CFR part 7—Public Availability of Information

49 CFR part 8—Classified Information: Classification/Declassification/Access

49 CFR part 9—Testimony of Employees of the Department and Production of Records in Legal Proceedings

49 CFR part 10—Maintenance of and Access to Records Pertaining to Individuals

49 CFR part 11—Protection of Human Subjects

Year 7 (2014) List of Rules With Ongoing Analysis

14 CFR part 374—Implementation of the Consumer Credit Protection Act with Respect to Air Carriers and Foreign Air Carriers

14 CFR part 374a—Extension of Credit by Airlines to Federal Political Candidates

14 CFR part 375—Navigation of Foreign Civil Aircraft within the United States

14 CFR part 377—Continuance of Expired Authorizations by Operation of Law Pending Final Determination of Applications for Renewal Thereof

14 CFR part 380—Public Charters

14 CFR part 381—Special Event Tours

14 CFR part 382—Nondiscrimination On The Basis Of Disability in Air Travel

14 CFR part 383—Civil Penalties

14 CFR part 385—Staff Assignments and Review of Action under Assignments

14 CFR part 389—Fees and Charges for Special Services

14 CFR part 398—Guidelines for Individual Determinations of Basic Essential Air Service

Year 6 (2013) List of Rules With Ongoing Analysis

14 CFR part 300—Rules of Conduct in DOT Proceedings Under This Chapter

14 CFR part 302—Rules of Practice in Proceedings

14 CFR part 303—Review of Air Carrier Agreements

14 CFR part 305—Rules of Practice in Informal Nonpublic Investigations

14 CFR part 313—Implementation of the Energy Policy and Conservation Act

14 CFR part 323—Terminations, Suspensions, and Reductions of Service

14 CFR part 325—Essential Air Service Procedures

14 CFR part 330—Procedures For Compensation of Air Carriers

14 CFR part 372—Overseas Military Personnel Charters

Year 5 (Fall 2012) List of Rules With Ongoing Analysis

14 CFR part 255—Airline Computer Reservations Systems

14 CFR part 256—[Reserved]

14 CFR part 271—Guidelines for Subsidizing Air Carriers Providing Essential Air Transportation

14 CFR part 272—Essential Air Service to the Freely Associated States

14 CFR part 291—Cargo Operations in Interstate Air Transportation

14 CFR part 292—International Cargo Transportation

14 CFR part 293—International Passenger Transportation

14 CFR part 294—Canadian Charter Air Taxi Operators

14 CFR part 296—Indirect Air Transportation of Property

14 CFR part 297—Foreign Air Freight Forwarders and Foreign Cooperative Shippers Associations

14 CFR part 298—Exemptions for Air Taxi and Commuter Air Carrier Operations

Year 4 (Fall 2011) List of Rules With Ongoing Analysis

14 CFR part 240—Inspection of Accounts and Property

14 CFR part 241—Uniform System of Accounts and Reports for Large Certificated Air Carriers

14 CFR part 243—Passenger Manifest Information

14 CFR part 247—Direct Airport-to-Airport Mileage Records

14 CFR part 248—Submission of Audit Reports

14 CFR part 249—Preservation of Air Carrier Records

Year 3 (Fall 2010) List of Rules With Ongoing Analysis

14 CFR part 213—Terms, Conditions, and Limitations of Foreign Air Carrier Permits

14 CFR part 214—Terms, Conditions, and Limitations of Foreign Air Carrier Permits Authorizing Charter Transportation Only

14 CFR part 215—Use and Change of Names of Air Carriers, Foreign Air Carriers, and Commuter Air Carriers

14 CFR part 216—Commingling of Blind Sector Traffic by Foreign Air Carriers

14 CFR part 217—Reporting Traffic Statistics by Foreign Air Carriers in Civilian Scheduled, Charter, and Nonscheduled Services

14 CFR part 218—Lease by Foreign Air Carrier or Other Foreign Person of Aircraft With Crew

14 CFR part 221—Tariffs

14 CFR part 222—Intermodal Cargo Services by Foreign Air Carriers

14 CFR part 223—Free and Reduced-Rate Transportation

14 CFR part 232—Transportation of Mail, Review of Orders of Postmaster General

14 CFR part 234—Airline Service Quality Performance Reports

Year 1 (Fall 2008) List of Rules With Ongoing Analysis

49 CFR part 91—International Air Transportation Fair Competitive Practices

49 CFR part 92—Recovering Debts to the United States by Salary Offset

49 CFR part 98—Enforcement of Restrictions on Post-Employment Activities

49 CFR part 99—Employee Responsibilities and Conduct

14 CFR part 200—Definitions and Instructions

14 CFR part 201—Air Carrier Authority Under Subtitle VII of Title 49 of the United States Code [Amended]

14 CFR part 203—Waiver of Warsaw Convention Liability Limits and Defenses

14 CFR part 204—Data to Support Fitness Determinations

14 CFR part 205—Aircraft Accident Liability Insurance

14 CFR part 206—Certificates of Public Convenience and Necessity: Special Authorizations and Exemptions

14 CFR part 207—Charter Trips by U.S. Scheduled Air Carriers

14 CFR part 208—Charter Trips by U.S. Charter Air Carriers

14 CFR part 211—Applications for Permits to Foreign Air Carriers

14 CFR part 212—Charter Rules for U.S. and Foreign Direct Air Carriers

Federal Aviation Administration

Section 610 Review Plan

The FAA has elected to use the two-step, two-year process used by most DOT modes in past plans. As such, the FAA has divided its rules into 10 groups as displayed in the table below. During the first year (the “analysis year”), all rules published during the previous 10 years within a 10% block of the regulations will be analyzed to identify those with a SEIOSNOSE. During the second year (the “review year”), each rule identified in the analysis year as having a SEIONOSE will be reviewed in accordance with Section 610 (b) to determine if it should be continued without change or changed to minimize impact on small entities. Results of those reviews will be published in the DOT Semiannual Regulatory Agenda.

Year | Regulations to be reviewed | Analysis year | Review year
1 | 14 CFR parts 119 through 129 and parts 150 through 156 | 2008 | 2009
2 | 14 CFR parts 133 through 139 and parts 157 through 169 | 2009 | 2010
3 | 14 CFR parts 141 through 147 and parts 170 through 187 | 2010 | 2011
4 | 14 CFR parts 189 through 198 and parts 1 through 16 | 2011 | 2012
5 | 14 CFR parts 17 through 33 | 2012 | 2013
6 | 14 CFR parts 34 through 39 and parts 400 through 405 | 2013 | 2014
7 | 14 CFR parts 43 through 49 and parts 406 through 415 | 2014 | 2015
8 | 14 CFR parts 60 through 77 | 2015 | 2016
9 | 14 CFR parts 91 through 105 | 2016 | 2017
10 | 14 CFR parts 417 through 460 | 2017 | 2018

Year 9 (2016) List of Rules To Be Analyzed During the Next Year

14 CFR part 91—General Operating and Flight Rules

14 CFR part 93—Special Air Traffic Rules

14 CFR part 95—IFR Altitudes

14 CFR part 97—Standard Instrument Procedures

14 CFR part 99—Security Control of Air Traffic

14 CFR part 101—Moored Balloons, Kites, Amateur Rockets and Unmanned Free Balloons

14 CFR part 103—Ultralight Vehicles

14 CFR part 105—Parachute Operations

Year 8 (2015) List of Rules Analyzed and Summary of Results

14 CFR Part 60—Flight Simulation Training Device Initial and Continuing Qualification and Use

• Section 610: The agency conducted a Section 610 review of this part and found no SEISNOSE.

• General: No changes are needed. These regulations are cost effective and impose the least burden. FAA's plain language review of these rules indicates no need for substantial revision.

14 CFR Part 61—Certification: Pilots, Flight Instructors, and Ground Instructors

• Section 610: The agency conducted a Section 610 review of this part and found no SEISNOSE.

• General: No changes are needed. These regulations are cost effective and impose the least burden. FAA's plain language review of these rules indicates no need for substantial revision.

14 CFR Part 63—Certification: Flight Crewmembers Other Than Pilots

• Section 610: The agency conducted a Section 610 review of this part and found no SEISNOSE.

• General: No changes are needed. These regulations are cost effective and impose the least burden. FAA's plain language review of these rules indicates no need for substantial revision.

14 CFR Part 65—Certification: Airmen Other than Flight Crewmembers

• Section 610: The agency conducted a Section 610 review of this part and found no SEISNOSE.

• General: No changes are needed. These regulations are cost effective and impose the least burden. FAA's plain language review of these rules indicates no need for substantial revision.

14 CFR Part 67—Medical Standards and Certification

• Section 610: The agency conducted a Section 610 review of this part and found no SEISNOSE.

• General: No changes are needed. These regulations are cost effective and impose the least burden. FAA's plain language review of these rules indicates no need for substantial revision.

14 CFR Part 71—Designation of Class A, B, C, D, and E Airspace Areas; Air Traffic Service Routes; and Reporting Points

• Section 610: The agency conducted a Section 610 review of this part and found no SEISNOSE.

• General: No changes are needed. These regulations are cost effective and impose the least burden. FAA's plain language review of these rules indicates no need for substantial revision.

14 CFR Part 73—Special Use Airspace

• Section 610: The agency conducted a Section 610 review of this part and found no SEISNOSE.

• General: No changes are needed. These regulations are cost effective and impose the least burden. FAA's plain language review of these rules indicates no need for substantial revision.

14 CFR Part 77—Safe, Efficient Use, and Preservation of the Navigable Airspace

• Section 610: The agency conducted a Section 610 review of this part and found no SEISNOSE.

• General: No changes are needed. These regulations are cost effective and impose the least burden. FAA's plain language review of these rules indicates no need for substantial revision.

Federal Highway Administration

Section 610 and Other Reviews

Year | Regulations to be reviewed | Analysis year | Review year
1 | None | 2008 | 2009
2 | 23 CFR parts 1 to 260 | 2009 | 2010
3 | 23 CFR parts 420 to 470 | 2010 | 2011
4 | 23 CFR part 500 | 2011 | 2012
5 | 23 CFR parts 620 to 637 | 2012 | 2013
6 | 23 CFR parts 645 to 669 | 2013 | 2014
7 | 23 CFR parts 710 to 924 | 2014 | 2015
8 | 23 CFR parts 940 to 973 | 2015 | 2016
9 | 23 CFR parts 1200 to 1252 | 2016 | 2017
10 | New parts and subparts | 2017 | 2018

Federal-Aid Highway Program

The Federal Highway Administration (FHWA) has adopted regulations in title 23 of the CFR, chapter I, related to the Federal-Aid Highway Program. These regulations implement and carry out the provisions of Federal law relating to the administration of Federal aid for highways. The primary law authorizing Federal aid for highway is chapter I of title 23 of the U.S.C. 145 of title 23, expressly provides for a federally assisted State program. For this reason, the regulations adopted by the FHWA in title 23 of the CFR primarily relate to the requirements that States must meet to receive Federal funds for the construction and other work related to highways. Because the regulations in title 23 primarily relate to States, which are not defined as small entities under the Regulatory Flexibility Act, the FHWA believes that its regulations in title 23 do not have a significant economic impact on a substantial number of small entities. The FHWA solicits public comment on this preliminary conclusion.

Year 7 (Fall 2014) List of Rules Analyzed and a Summary of Results

23 CFR Part 710—Right-of-Way and Real Estate

• Section 610: No SEIOSNOSE. No small entities are affected.

• General: An updated rule was promulgated implementing section 1302 of MAP-21 by adding the new authorities for early acquisition of property to part 710, clarifying the Federal-aid eligibility of a broad range of real property interests that constitute less than full fee ownership, streamlining program requirements, clarifying the Federal-State partnership, and carrying out a comprehensive update of part 710.

23 CFR Part 750—Highway Beautification

• Section 610: No SEIOSNOSE. No small entities are affected.

• General: No changes are needed. These regulations are cost effective and impose the least burden. FHWA's plain language review of these rules indicates no need for substantial revision.

23 FR Part 751—Junkyard Control and Acquisition

• Section 610: No SEIOSNOSE. No small entities are affected.

• General: No changes are needed. These regulations are cost effective and impose the least burden. FHWA's plain language review of these rules indicates no need for substantial revision.

23 CFR Part 752—Landscape and Roadside Development

• Section 610: No SEIOSNOSE. No small entities are affected.

• General: No changes are needed. These regulations are cost effective and impose the least burden. FHWA's plain language review of these rules indicates no need for substantial revision.

23 CFR Part 771—Environmental Impact and Related Procedures

• Section 610: No SEIOSNOSE. No small entities are affected.

• General: An updated rule was promulgated to conform with MAP-21, and proposes additional substantive and nonsubstantive changes to streamline or clarify this part.

23 CFR Part 772—Procedures for Abatement of Highway Traffic Noise and Construction Noise

• Section 610: No SEIOSNOSE. No small entities are affected.

• General: No changes are needed. These regulations are cost effective and impose the least burden. FHWA's plain language review of these rules indicates no need for substantial revision.

23 CFR Part 773—Surface Transportation Project Delivery Program Application Requirements and Termination

• Section 610: No SEIOSNOSE. No small entities are affected.

• General: No changes are needed. These regulations are cost effective and impose the least burden. FHWA's plain language review of these rules indicates no need for substantial revision.

23 CFR Part 774—Parks, Recreation Areas, Wildlife and Waterfowl Refuges, and Historic Sites (Section 4(f))

• Section 610: No SEIOSNOSE. No small entities are affected.

• General: No changes are needed. These regulations are cost effective and impose the least burden. FHWA's plain language review of these rules indicates no need for substantial revision.

23 CFR Part 777—Mitigation of Impacts to Wetlands and Natural Habitat

• Section 610: No SEIOSNOSE. No small entities are affected.

• General: No changes are needed. These regulations are cost effective and impose the least burden. FHWA's plain language review of these rules indicates no need for substantial revision.

23 CFR Part 810—Mass Transit and Special Use Highway Projects

• Section 610: No SEIOSNOSE. No small entities are affected.

• General: No changes are needed. These regulations are cost effective and impose the least burden. FHWA's plain language review of these rules indicates no need for substantial revision.

23 CFR Part 924—Highway Safety Improvement Program

• Section 610: No SEIOSNOSE. No small entities are affected.

• General: An updated rule was promulgated to incorporate amendments made to the program by section 1112 of MAP-21 and to incorporate necessary changes to align with the safety performance management rulemaking.

Year 8 (Fall 2015) List of Rules That Will Be Analyzed During the Next Year

23 CFR part 940—Intelligent transportation system architecture and standards

23 CFR part 950—Electronic toll collection

23 CFR part 970—National Park Service Management Systems

23 CFR part 971—Forest Service management systems

23 CFR part 972—Fish and Wildlife Service management systems

23 CFR part 973—Management systems pertaining to the Bureau of Indian Affairs and the Indian Reservation Roads Program

Federal Motor Carrier Safety Administration

Section 610 and Other Reviews

Year | Regulations to be reviewed | Analysis year | Review year
1 | 49 CFR part 372, subpart A | 2008 | 2009
2 | 49 CFR part 386 | 2009 | 2010
3 | 49 CFR parts 325 and 390 (General) | 2010 | 2011
4 | 49 CFR parts 390 (Small Passenger-Carrying Vehicles), 391 to 393 and 396 to 399 | 2011 | 2012
5 | 49 CFR part 387 | 2012 | 2013
6 | 49 CFR parts 360, 365, 366, 368, 374, 377, and 378 | 2013 | 2014
7 | 49 CFR parts 356, 367, 369, 370, 371, 372 (subparts B and C) | 2014 | 2015
8 | 49 CFR parts 373, 376, and 379 | 2015 | 2016
9 | 49 CFR part 375 | 2016 | 2017
10 | 49 CFR part 395 | 2017 | 2018

Year 6 (Fall 2014) List of Rules Analyzed and a Summary of Results

49 CFR Part 360—Fees for Motor Carrier Registration and Insurance

• Section 610: There is no SEISNOSE. This administrative rule allows FMCSA to collect one-time nominal registration and insurance fees for commercial motor carriers. The fees do not place any significant cost burden on small entities.

• General: FMCSA will integrate plain language techniques to the extent possible as it rewrites various rulemakings to address Safe, Accountable, Flexible, Efficient Transportation Equity Act: A Legacy for Users (SAFETEA-LU) and MAP-21 provisions that authorize the replacement of three current identification and registration systems with a single online Federal “Unified Registration System (URS).” The authority to set and collect fees is found in 31 U.S.C. 9701 and 49 U.S.C. 13908.

49 CFR Part 3659—Rules Governing Applications for Operating Authority

• Section 610: There is no SEISNOSE. This administrative rule describes the operating authority application process and does not require extensive time to complete. The rule also allows commercial motor vehicle (CMV) carriers to protest a rejected application for operating authority. Because no entity is obliged to file a protest; and the filing process requires minimal time to complete, we find that the rule does not impose any significant costs upon a significant number of small entities.

• General: FMCSA will integrate plain language techniques as it rewrites these rulemakings and will integrate this part into 49 CFR part 360 consistent with the Federal “Unified Registration System.” This part is still relevant as it provides carriers with the authority to operate.

49 CFR Part 366—Designation of Process Agent

• Section 610: There is no SEISNOSE. These rules require motor carriers to designate court-related process agents for every State in which they operate to enable the claimant to adjudicate a claim in the jurisdiction where the claim arises. Many small motor carriers contract with organizations which provide a nationwide blanket authority at a reasonable cost.

• General: The process-agent designation is imposed by statute: 49 U.S.C. 13303 and 13304; consequently FMCSA has no discretion regarding costs associated with this rulemaking. FMCSA will integrate plain language techniques as it rewrites these rulemakings and will integrate this part into 49 CFR part 360 consistent with the Federal “Unified Registration System.”

49 CFR Part 368—Application for a Certificate of Registration to Operate in Municipalities in the United States on the United States-Mexico International Border or Within the Commercial Zones of Such Municipalities

• Section 610: There is no SEISNOSE. The issuance of “Certificates of Registration” to Mexican motor carriers of property desiring to operate in the United States commercial border zones applies only to Mexican carriers and therefore has no cost impact to U.S. small entities.

• General: This rule remains important since the North American Free Trade Agreement has not been fully implemented. The FMCSA will integrate plain language techniques as it rewrites these rulemakings and will integrate this part into 49 CFR part 360, consistent with SAFETEA-LU and the proposed Federal “Unified Registration System.”

49 CFR Part 374—Discrimination in Operations of Interstate Motor Common Carriers of Passengers

• Section 610: There is no SEISNOSE. This regulation is administrative in nature and was transferred to the Department of Transportation upon the enactment of the Interstate Commerce Commission Termination Act (ICCTA) of 1995. This rule prohibits certain forms of discrimination and smoking on interstate motor carriers of passengers, ticketing requirements, and excess baggage requirements regarding commercial travel on Interstate motor carriers of passengers. These rules promote standard business practices that a prudent person should undertake in the proper management of transportation operations consistent with existing laws to include the Americans with Disabilities Act (ADA) and the Civil Rights Amendment. There are no substantial additive costs borne by small entities as a result of this rule.

• General: These regulations are cost effective and impose minimal burden. FMCSA will rewrite the regulations using plain language techniques as resources permit.

49 CFR Part 377—Payment of Transportation Charges

• Section 610: There is no SEISNOSE. The rules and regulations in this part apply to the transportation by motor vehicle of collect on delivery shipments by common carriers of property subject to 49 U.S.C. 13702, and extending credit to shippers. The rules do not constrain business decisions or impose costly fees upon small entities.

• General: These rules support 49 U.S.C. 13702, and require certain carriers to publish tariffs in support of non-contiguous domestic trade. FMCSA will rewrite its regulations using plain language techniques as resources permit.

49 CFR Part 378—Procedures Governing the Processing, Investigation, and Disposition of Overcharge, Duplicate Payment, or Over-Collection Claims

• Section 610: There is no SEISNOSE. These rules involve standard business practices that a prudent carrier should undertake in the proper management of claim disputes even in the absence of the rules. The benefits of the rule justify their costs, and impose only a minimal cost burden on small entities.

• General: These rules support 49 U.S.C. 13301, 14101, 14704, 14705, and 13702(a), which regulate the management of claim disputes. FMCSA will rewrite the regulations using plain language techniques as resources permit.

Year 7 (Fall 2015) List of Rules That Will Be Analyzed During the Next Year

49 CFR part 356—Motor Carrier Routing Regulations;

49 CFR part 367—Standards for Registration with States;

49 CFR part 369—Reports of Motor Carriers;

49 CFR part 370—Principles and Practices for the Investigation and Voluntary Disposition of Loss and Damage Claims and Processing Salvage;

49 CFR part 371—Brokers of Property; and

49 CFR part 372 (subparts B and C)—Exemptions, Commercial Zones and Terminal Areas.

National Highway Traffic Safety Administration

Section 610 and Other Reviews

Year | Regulations to be reviewed | Analysis year | Review year
1 | 49 CFR parts 571.223 through 571.500, and parts 575 and 579 | 2008 | 2009
2 | 23 CFR parts 1200 through 1300 | 2009 | 2010
3 | 49 CFR parts 501 through 526 and 571.213 | 2010 | 2011
4 | 49 CFR parts 571.131, 571.217, 571.220, 571.221, and 571.222 | 2011 | 2012
5 | 49 CFR parts 571.101 through 571.110, and 571.135, 571.138, and 571.139 | 2012 | 2013
6 | 49 CFR parts 529 through 578, except parts 571 and 575 | 2013 | 2014
7 | 49 CFR parts 571.111 through 571.129 and parts 580 through 588 | 2014 | 2015
8 | 49 CFR parts 571.201 through 571.212 | 2015 | 2016
9 | 49 CFR parts 571.214 through 571.219, except 571.217 | 2016 | 2017
10 | 49 CFR parts 591 through 595 and new parts and subparts | 2017 | 2018

Year 7 (Fall 2014) List of Rules Analyzed and a Summary of the Results

49 CFR Part 571.111—Rear Visibility

• Section 610: There is no SEIOSNOSE.

• General: No changes are needed. These regulations are cost effective and impose the least burden. NHTSA's plain language review of these rules indicates no need for substantial revision.

49 CFR Part 571.113—Hood Latch System

• Section 610: There is no SEIOSNOSE.

• General: No changes are needed. These regulations are cost effective and impose the least burden. NHTSA's plain language review of these rules indicates no need for substantial revision.

49 CFR Part 571.114—Theft Protection and Rollaway Prevention

• Section 610: There is no SEIOSNOSE.

• General: No changes are needed. These regulations are cost effective and impose the least burden. NHTSA's plain language review of these rules indicates no need for substantial revision.

49 CFR Part 571.116—Motor Vehicle Brake Fluids

• Section 610: There is no SEIOSNOSE.

• General: No changes are needed. These regulations are cost effective and impose the least burden. NHTSA's plain language review of these rules indicates no need for substantial revision.

49 CFR Part 571.117—Retreaded Pneumatic Tires

• Section 610: There is no SEIOSNOSE.

• General: No changes are needed. These regulations are cost effective and impose the least burden. NHTSA's plain language review of these rules indicates no need for substantial revision.

49 CFR Part 571.118—Power-Operated Window, Partition, and Roof Panel Systems

• Section 610: There is no SEIOSNOSE.

• General: No changes are needed. These regulations are cost effective and impose the least burden. NHTSA's plain language review of these rules indicates no need for substantial revision.

49 CFR Part 571.119—New Pneumatic Tires for Motor Vehicles With a GVWR of More Than 4,536 Kilograms (10,000 Pounds) and Motorcycles

• Section 610: There is no SEIOSNOSE.

• General: No changes are needed. These regulations are cost effective and impose the least burden. NHTSA's plain language review of these rules indicates no need for substantial revision.

49 CFR Part 571.120—Tire Selection and Rims and Motor Home/Recreation Vehicle Trailer Load Carrying Capacity Information for Motor Vehicles With a GVWR of More Than 4,536 Kilograms (10,000 Pounds)

• Section 610: There is no SEIOSNOSE.

• General: No changes are needed. These regulations are cost effective and impose the least burden. NHTSA's plain language review of these rules indicates no need for substantial revision.

49 CFR Part 571.121—Air Brake Systems

• Section 610: There is no SEIOSNOSE.

• General: No changes are needed. These regulations are cost effective and impose the least burden. NHTSA's plain language review of these rules indicates no need for substantial revision.

49 CFR Part 571.122—Motorcycle Brake Systems

• Section 610: There is no SEIOSNOSE.

• General: No changes are needed. These regulations are cost effective and impose the least burden. NHTSA's plain language review of these rules indicates no need for substantial revision.

49 CFR Part 571.122a—Motorcycle Brake Systems

• Section 610: There is no SEIOSNOSE.

• General: No changes are needed. These regulations are cost effective and impose the least burden. NHTSA's plain language review of these rules indicates no need for substantial revision.

49 CFR Part 571.123—Motorcycle Controls and Displays

• Section 610: There is no SEIOSNOSE.

• General: No changes are needed. These regulations are cost effective and impose the least burden. NHTSA's plain language review of these rules indicates no need for substantial revision.

49 CFR Part 571.124—Accelerator Control Systems

• Section 610: There is no SEIOSNOSE.

• General: No changes are needed. These regulations are cost effective and impose the least burden. NHTSA's plain language review of these rules indicates no need for substantial revision.

49 CFR Part 571.125—Warning Devices

• Section 610: There is no SEIOSNOSE.

• General: No changes are needed. These regulations are cost effective and impose the least burden. NHTSA's plain language review of these rules indicates no need for substantial revision.

49 CFR Part 571.126—Electronic Stability Control Systems

• Section 610: There is no SEIOSNOSE.

• General: No changes are needed. These regulations are cost effective and impose the least burden. NHTSA's plain language review of these rules indicates no need for substantial revision.

49 CFR Part 571.129—New Non-pneumatic Tires for Passenger Cars

• Section 610: There is no SEIOSNOSE.

• General: No changes are needed. These regulations are cost effective and impose the least burden. NHTSA's plain language review of these rules indicates no need for substantial revision.

49 CFR Part 580—Odometer Disclosure Requirements

• Section 610: There is no SEIOSNOSE.

• General: No changes are needed. These regulations are cost effective and impose the least burden. NHTSA's plain language review of these rules indicates no need for substantial revision.

49 CFR Part 581—Bumper Standard

• Section 610: There is no SEIOSNOSE.

• General: No changes are needed. These regulations are cost effective and impose the least burden. NHTSA's plain language review of these rules indicates no need for substantial revision.

49 CFR Part 582—Insurance Cost Information Regulation

• Section 610: There is no SEIOSNOSE.

• General: No changes are needed. These regulations are cost effective and impose the least burden. NHTSA's plain language review of these rules indicates no need for substantial revision.

49 CFR Part 583—Automobile Parts Content Labeling

• Section 610: There is no SEIOSNOSE.

• General: No changes are needed. These regulations are cost effective and impose the least burden. NHTSA's plain language review of these rules indicates no need for substantial revision.

49 CFR Part 585—Phase-In Reporting Requirements

• Section 610: There is no SEIOSNOSE.

• General: No changes are needed. These regulations are cost effective and impose the least burden. NHTSA's plain language review of these rules indicates no need for substantial revision.

49 CFR Part 587—Deformable Barriers

• Section 610: There is no SEIOSNOSE.

• General: No changes are needed. These regulations are cost effective and impose the least burden. NHTSA's plain language review of these rules indicates no need for substantial revision.

49 CFR Part 588—Child Restraint Systems Recordkeeping Requirements

• Section 610: There is no SEIOSNOSE.

• General: No changes are needed. These regulations are cost effective and impose the least burden. NHTSA's plain language review of these rules indicates no need for substantial revision.

Year 8 (Fall 2015) List of Rules That Will Be Analyzed During the Next Year

49 CFR part 571.201—Occupant Protection in Interior Impact

49 CFR part 571.202—Head Restraints; Applicable at the Manufacturers Option Until September 1, 2009

49 CFR part 571.202a—Head Restraints; Mandatory Applicability Begins On September 1, 2009

49 CFR part 571.203—Impact Protection For the Driver From the Steering Control System

49 CFR part 571.204—Steering Control Rearward Displacement.

49 CFR part 571.205—Glazing Materials

49 CFR part 571.205a—Glazing Equipment Manufactured Before September 1, 2006 and Glazing Materials Used In Vehicles Manufactured Before November 1, 2006

49 CFR part 571.206—Door Locks and Door Retention Components

49 CFR part 571.207—Seating Systems

49 CFR part 571.208—Occupant Crash Protection

49 CFR part 571.209—Seat Belt Assemblies

49 CFR part 571.210—Seat Belt Assembly Anchorages

49 CFR part 571.211—[Reserved]

49 CFR part 571.212—Windshield Mounting

Federal Railroad Administration

Section 610 and Other Reviews

Year | Regulations to be reviewed | Analysis year | Review year
1 | 49 CFR parts 200 and 201 | 2008 | 2009
2 | 49 CFR parts 207, 209, 211, 215, 238, and 256 | 2009 | 2010
3 | 49 CFR parts 210, 212, 214, 217, and 268 | 2010 | 2011
4 | 49 CFR part 219 | 2011 | 2012
5 | 49 CFR parts 218, 221, 241, and 244 | 2012 | 2013
6 | 49 CFR parts 216, 228, and 229 | 2013 | 2014
7 | 49 CFR parts 223 and 233 | 2014 | 2015
8 | 49 CFR parts 224, 225, 231, and 234 | 2015 | 2016
9 | 49 CFR parts 222, 227, 235, 236, 250, 260, and 266 | 2016 | 2017
10 | 49 CFR parts 213, 220, 230, 232, 239, 240, and 265 | 2017 | 2018

Year 7 (Fall 2014) List of Rules Analyzed and a Summary of Results

49 CFR Part 223—Safety Glazing Standards—Locomotives, Passenger Cars and Cabooses

• Section 610: There is no SEIOSNOSE.

• General: The rule provides minimum requirements for glazing materials, and is necessary to protect railroad employees and railroad passengers from injury as a result of objects striking the windows of locomotives, passenger cars and cabooses. Recent amendments with regard to the clarification existing regulations related to the use of glazing materials in the windows of locomotives, passenger cars, and cabooses are expected to reduce paperwork and other economic burdens on the rail industry by removing a stenciling requirement for locomotives, passenger cars, and cabooses. FRA's plain language review of this rule indicates no need for substantial revision.

49 CFR Part 233—Signal Systems Reporting Requirements

• Section 610: There is no SEIOSNOSE.

• General: FRA proposed to eliminate the five-year reporting requirement in a notice of proposed rulemaking (NPRM) that was published on June 19, 2013. The final rule eliminated the regulatory requirement that each railroad file a Signal Systems Five-Year Report with FRA which became effective on September 2, 2014. This would reduce paperwork burdens, and protect public health, welfare, safety and environment. FRA's plain language review of this rule indicates no need for substantial revision.

Year 8 (Fall 2015) List of Rule(s) That Will Be Analyzed During Next Year

49 CFR part 224—Reflectorization of Rail Freight Rolling Stock

49 CFR part 225—Railroad Accidents/Incidents: Reports Classification and Investigations

49 CFR part 231—Railroad Safety Appliance Standards

49 CFR part 234—Grade Crossing Safety, Including Signal Systems, State Action Plans, and Emergency Notification Systems

Federal Transit Administration

Section 610 and Other Reviews

Year | Regulations to be reviewed | Analysis year | Review year
1 | 49 CFR parts 604, 605, and 633 | 2008 | 2009
2 | 49 CFR parts 661 and 665 | 2009 | 2010
3 | 49 CFR part 633 | 2010 | 2011
4 | 49 CFR parts 609 and 611 | 2011 | 2012
5 | 49 CFR parts 613 and 614 | 2012 | 2013
6 | 49 CFR part 622 | 2013 | 2014
7 | 49 CFR part 630 | 2014 | 2015
8 | 49 CFR part 639 | 2015 | 2016
9 | 49 CFR parts 659 and 663 | 2016 | 2017
10 | 49 CFR part 665 | 2017 | 2018

Year 7 (Fall 2014) List of Rules Analyzed and Summary of Results

49 CFR Part 630—National Transit Database

• Section 610: The agency has determined that the rule continues to not have a significant effect on a substantial number of small entities. FTA is proposing to amend the rule to align with the statutory requirement to report performance measures and targets for the National Transit Asset Management System as required under 49 U.S.C. 5326(c)(3). Currently, the NTD reporting requirements are limited, in some instances, to recipients and sub-recipients of section 5307 urban formula funds and 5311 rural formula funds. The proposed reporting requirements would apply to all recipients and sub-recipients of Chapter 53 funds that own, operate, or manage capital assets used in the provision of public transportation. However, FTA is not proposing to apply all existing NTD reporting requirements to all recipients of chapter 53 funds. FTA has evaluated the likely effects of the proposed rule on small entities and is requesting public comment during the rulemaking process. FTA has determined that the proposed revisions will not have a significant economic impact on a substantial number of small entities.

• General: The rule was promulgated to prescribe requirements and procedures for compliance with Federal data reporting requirements dictated by statute. Recently, Congress included additional reporting requirements for the management of transit asset when it enacted the Moving Ahead for Progress in the 21st Century Act (MAP-21), Public Law 112-141, (2012). FTA is promulgating a notice of proposed rulemaking to implement specific reporting requirements of the National Asset Management System in accordance with 49 U.S.C. 5326. The proposal includes revising 49 CFR part 630 to apply to all recipients of Federal public transit funds instead of being limited to just recipients of Federal funds under 49 U.S.C. 5307 and 5311. However, the proposed rule will not extend all current reporting requirements to all recipients. This proposal will revise the regulation to be consistent with current statutory requirements.

Year 8 (Fall 2015)—List of Rule(s) That Will Be Analyzed This Year

49 CFR part 639—Capital Leases

Maritime Administration

Section 610 and Other Reviews

Year | Regulations to be reviewed | Analysis year | Review year
1 | 46 CFR parts 201 through 205 | 2008 | 2009
2 | 46 CFR parts 221 through 232 | 2009 | 2010
3 | 46 CFR parts 249 through 296 | 2010 | 2011
4 | 46 CFR parts 221, 298, 308, and 309 | 2011 | 2012
5 | 46 CFR parts 307 through 309 | 2012 | 2013
6 | 46 CFR part 310 | 2013 | 2014
7 | 46 CFR parts 315 through 340 | 2014 | 2015
8 | 46 CFR parts 345 through 381 | 2015 | 2016
9 | 46 CFR parts 382 through 389 | 2016 | 2017
10 | 46 CFR parts 390 through 393 | 2017 | 2018

Year 6 (2013) List of Rules With Ongoing Analysis

46 CFR part 310—Merchant Marine Training

Year 7 (2014) List of Rules With Ongoing Analysis

46 CFR part 315—Agency Agreements and Appointment of Agents

46 CFR part 317—Bonding of Ship's Personnel

46 CFR part 324—Procedural Rules for Financial Transactions Under Agency Agreements

46 CFR part 325—Procedure to be Followed by General Agents in Preparation of Invoices and Payment of Compensation Pursuant to Provisions of NSA Order No. 47

46 CFR part 326—Marine Protection and Indemnity Insurance Under Agreements with Agents

46 CFR part 327—Seamen's Claims; Administrative Action and Litigation

46 CFR part 328—Slop Chests

46 CFR part 329—Voyage Data

46 CFR part 330—Launch Services

46 CFR part 332—Repatriation of Seaman

46 CFR part 335—Authority and Responsibility of General Agents to Undertake Emergency Repairs in Foreign Ports

46 CFR part 336—Authority and Responsibility of General Agents to Undertake in Continental United States Ports Voyage Repairs and Service Equipment of Vessels Operated for the Account of the National Shipping Authority Under General Agency Agreement

46 CFR part 337—General Agent's responsibility in Connection with Foreign Repair Custom's Entries

46 CFR part 338—Procedure for Accomplishment of Vessel Repairs Under National Shipping Authority Master Lump Sum Repair Contract—NSA—Lumpsumrep

46 CFR part 339—Procedure for Accomplishment of Ship Repairs Under National Shipping Authority Individual Contract for Minor Repairs—NSA—Worksmalrep

46 CFR part 340—Priority Use and Allocation of Shipping Services, Container and Chassis and Port Facilities and Services for National Security and National Defense Related Operations.

Year 8 (2015) List of Rules With Ongoing Analysis

46 CFR part 345—Restrictions upon the transfer or change in use or in terms governing utilization of port facilities

46 CFR part 346—Federal port controllers

46 CFR part 356—Requirements for vessels over 100 feet or greater in registered length to obtain a fishery endorsement to the vessel's documentation

46 CFR part 370—Claims

46 CFR part 381—Cargo preference—U.S.-flag vessels

Year 9 (2016) List of Rules That Will Be Analyzed During the Next Year

46 CFR part 382—Determination of fair and reasonable rates for the carriage of bulk and packaged preference cargoes on U.S.-flag commercial vessels

46 CFR part 385—Research and development grant and cooperative agreements regulations

46 CFR part 386—Regulations governing public buildings and grounds at the United States Merchant Marine Academy

46 CFR part 387—Utilization and disposal of surplus Federal real property for development or operation of a port facility

46 CFR part 388—Administrative waivers of the Coastwise Trade Laws

46 CFR part 389—Determination of availability of coast-wise-qualified vessels for transportation of platform jackets

Pipeline and Hazardous Materials Safety Administration (PHMSA)

Section 610 and Other Reviews

Year | Regulations to be reviewed | Analysis year | Review year
1 | 49 CFR part 178 | 2008 | 2009
2 | 49 CFR parts 178 through 180 | 2009 | 2010
3 | 49 CFR parts 172 and 175 | 2010 | 2011
4 | 49 CFR part 171, sections 171.15 and 171.16 | 2011 | 2012
5 | 49 CFR parts 106, 107, 171, 190, and 195 | 2012 | 2013
6 | 49 CFR parts 174, 177, 191, and 192 | 2013 | 2014
7 | 49 CFR parts 176 and 199 | 2014 | 2015
8 | 49 CFR parts 172 and 178 | 2015 | 2016
9 | 49 CFR parts 172, 173, 174, 176, 177, and 193 | 2016 | 2017
10 | 49 CFR parts 173 and 194 | 2017 | 2018

Year 7 (Fall 2015) List of Rules Analyzed and a Summary of Results

49 CFR Part 176—Carriage by Vessel

• Section 610: There is no SEIOSNOSE. This rule prescribes minimum safety standards for the transportation of hazardous materials by vessel. Some small entities may be affected, but the economic impact on small entities will not be significant.

• General: The requirements in this rule are necessary to protect workers and the general public from the dangers associated with incidents involving hazardous materials transported by vessel. These provisions closely align with international standards for the safe transportation of dangerous goods. PHMSA works in consultation with the United States Coast Guard to promote a harmonized international framework for the vessel transport of hazardous materials through participation in relevant international standards setting bodies including the International Maritime Organization's Sub-Committee on Carriage of Cargoes and Containers and strives to harmonize domestic regulations with that framework wherever such harmonization provides an acceptable level of safety and is in the public interest. PHMSA's plain language review of this rule indicates no need for substantial revision.

49 CFR Part 199—Drug and Alcohol Testing

• Section 610: There is no SEIOSNOSE. Based on regulated entities, PHMSA found that the majority of operators are not small businesses. Therefore, though some small entities may be affected, the economic impact on small entities will not be significant.

• General: No changes are needed. These regulations are cost effective and impose the least burden. PHMSA's plain language review of this rule indicates no need for substantial revision.

Year 8 (Fall 2016) List of Rules That Will Be Analyzed During the Next Year

49 CFR part 172—Hazardous Materials Table, Special Provisions, Hazardous Materials Communications, Emergency Response Information, Training Requirements, and Security Plans

49 CFR part 178—Specifications for Packagings

Saint Lawrence Seaway Development Corporation

Section 610 and Other Reviews

Year | Regulations to be reviewed | Analysis year | Review year
1 | 33 CFR parts 401 through 403 | 2008 | 2009

Year 1 (Fall 2008) List of Rules With Ongoing Analysis

33 CFR part 401—Seaway Regulations and Rules

33 CFR part 402—Tariff of Tolls

33 CFR part 403—Rules of Procedure of the Joint Tolls Review Board

Office of the Secretary—Final Rule Stage
Sequence No. | Title | Regulation Identifier No.
336 | + Airline Pricing Transparency and Other Consumer Protection Issues | 2105-AE11
+ DOT-designated significant regulation.

Federal Aviation Administration—Prerule Stage
Sequence No. | Title | Regulation Identifier No.
337 | + Applying the Flight, Duty, and Rest Rules to Tail-End Ferry Operations (FAA Reauthorization | 2120-AK26
+ DOT-designated significant regulation.

Federal Aviation Administration—Proposed Rule Stage
Sequence No. | Title | Regulation Identifier No.
338 | + Airport Safety Management System (Reg Plan Seq No. 87) | 2120-AJ38
339 | + Applying the Flight, Duty, and Rest requirements to Ferry Flights that Follow Domestic, Flag, or Supplemental All-Cargo Operations (Reauthorization) | 2120-AK22
340 | + Revision of Airworthiness Standards for Normal, Utility, Acrobatic, and Commuter Category Airplanes (Reg Plan Seq No. 89) | 2120-AK65
+ DOT-designated significant regulation.
References in boldface appear in The Regulatory Plan in part II of this issue of the Federal Register.

Federal Aviation Administration—Final Rule Stage
Sequence No. | Title | Regulation Identifier No.
341 | + Operation and Certification of Small Unmanned Aircraft Systems (Reg Plan Seq No. 90) | 2120-AJ60
342 | Changing the Collective Risk Limits for Launches and Reentries and Clarifying the Risk Limit Used to Establish Hazard Areas for Ships and Aircraft | 2120-AK06
343 | Flight Simulation Training Device (FSTD) Qualification Standards for Extended Envelope and Adverse Weather Event Training | 2120-AK08
344 | Acceptance Criteria for Portable Oxygen Concentrators Used Onboard Aircraft (RRR) | 2120-AK32
345 | Reciprocal Waivers of Claims for Licensed or Permitted Launch and Reentry Activities (RRR) | 2120-AK44
+ DOT-designated significant regulation.
References in boldface appear in The Regulatory Plan in part II of this issue of the Federal Register.

Federal Aviation Administration—Long-Term Actions
Sequence No. | Title | Regulation Identifier No.
346 | + Requirements to File Notice of Construction of Meteorological Evaluation Towers and Other Renewable Energy Projects (Section 610 Review) | 2120-AK77
+ DOT-designated significant regulation.

Federal Aviation Administration—Completed Actions
Sequence No. | Title | Regulation Identifier No.
347 | + Prohibition Against Certain Flights Within the Baghdad (ORBB) Flight Information Region (FIR) Amendment | 2120-AK60
+ DOT-designated significant regulation.

Federal Motor Carrier Safety Administration—Proposed Rule Stage
Sequence No. | Title | Regulation Identifier No.
348 | + Carrier Safety Fitness Determination (Reg Plan Seq No. 94) | 2126-AB11
349 | + Entry-Level Driver Training (Section 610 Review) (Reg Plan Seq No. 95) | 2126-AB66
+ DOT-designated significant regulation
References in boldface appear in The Regulatory Plan in part II of this issue of the Federal Register.

Federal Motor Carrier Safety Administration—Final Rule Stage
Sequence No. | Title | Regulation Identifier No.
350 | + Commercial Driver's License Drug and Alcohol Clearinghouse (MAP-21) (Reg Plan Seq No. 96) | 2126-AB18
351 | + Electronic Logging Devices and Hours of Service Supporting Documents (MAP-21) (RRR) | 2126-AB20
+ DOT-designated significant regulation.
References in boldface appear in The Regulatory Plan in part II of this issue of the Federal Register.

Federal Motor Carrier Safety Administration—Completed Actions
Sequence No. | Title | Regulation Identifier No.
352 | + Lease and Interchange of Vehicles; Motor Carriers of Passengers | 2126-AB44
+ DOT-designated significant regulation.

Federal Railroad Administration—Proposed Rule Stage
Sequence No. | Title | Regulation Identifier No.
353 | + Passenger Equipment Safety Standards Amendments | 2130-AC46
354 | + Train Crew Staffing and Location | 2130-AC48
+ DOT-designated significant regulation.

Pipeline and Hazardous Materials Safety Administration—Proposed Rule Stage
Sequence No. | Title | Regulation Identifier No.
355 | + Pipeline Safety: Safety of On-Shore Liquid Hazardous Pipelines (Reg Plan Seq No. 101) | 2137-AE66
356 | + Pipeline Safety: Amendments to Parts 192 and 195 to Require Valve Installation and Minimum Rupture Detection Standards | 2137-AF06
357 | + Hazardous Materials: Oil Spill Response Plans and Information Sharing for High-Hazard Flammable Trains (Reg Plan Seq No. 103) | 2137-AF08
+ DOT-designated significant regulation.
References in boldface appear in The Regulatory Plan in part II of this issue of the Federal Register.

Pipeline and Hazardous Materials Safety Administration—Final Rule Stage
Sequence No. | Title | Regulation Identifier No.
358 | Pipeline Safety: Issues Related to the Use of Plastic Pipe in Gas Pipeline Industry | 2137-AE93
359 | Pipeline Safety: Operator Qualification, Cost Recovery, Accident and Incident Notification, and Other Changes (RRR) | 2137-AE94

Pipeline and Hazardous Materials Safety Administration—Completed Actions
Sequence No. | Title | Regulation Identifier No.
360 | + Hazardous Materials: Enhanced Tank Car Standards and Operational Controls for High-Hazard Flammable Trains | 2137-AE91
+ DOT-designated significant regulation.

Maritime Administration—Proposed Rule Stage
Sequence No. | Title | Regulation Identifier No.
361 | + Cargo Preference | 2133-AB74
+ DOT-designated significant regulation.

DEPARTMENT OF TRANSPORTATION (DOT)

Office of the Secretary (OST)

Final Rule Stage

336. +Airline Pricing Transparency and Other Consumer Protection Issues

Legal Authority: 49 U.S.C. 41712; 49 U.S.C. 40101; 49 U.S.C. 41702

Abstract: The Department is seeking comment on a number of proposals to enhance protections for air travelers and to improve the air travel environment, including a proposal to clarify and codify the Department's interpretation of the statutory definition of “ticket agent.” This NPRM would also require airlines and ticket agents to disclose at all points of sale the fees for certain basic ancillary services associated with the air transportation consumers are buying or considering buying. Other proposals in this NPRM to enhance airline passenger protections include: Expanding the pool of “reporting” carriers; requiring enhanced reporting by mainline carriers for their domestic code-share partner operations; requiring large travel agents to adopt minimum customer service standards; codifying the statutory requirement that carriers and ticket agents disclose any code-share arrangements on their Web sites; and prohibiting unfair and deceptive practices such as undisclosed biasing and post-purchase price increases. The Department is also considering whether to require ticket agents to disclose the carriers whose tickets they sell in order to avoid having consumers mistakenly believe they are searching all possible flight options for a particular city-pair market when in fact there may be other options available. Additionally, this NPRM would correct drafting errors and make minor changes to the Department's second Enhancing Airline Passenger Protections rule to conform to guidance issued by the Department's Office of Aviation Enforcement and Proceedings (Enforcement Office) regarding its interpretation of the rule.

Timetable:

Action | Date | FR Cite
NPRM | 05/23/14 | 79 FR 29970
Final Rule | 04/00/16

Regulatory Flexibility Analysis Required: Yes.

Agency Contact: Blane A Workie, Principal Deputy Assistant General Counsel, Department of Transportation, Office of the Secretary, 1200 New Jersey Avenue SE., Washington, DC 20590, Phone: 202 366-9342, TDD Phone: 202 755-7687, Fax: 202 366-7152, Email: blane.workie@dot.gov.

RIN: 2105-AE11

BILLING CODE 4910-9X-P

DEPARTMENT OF TRANSPORTATION (DOT)

Federal Aviation Administration (FAA)

Prerule Stage

337. +Applying the Flight, Duty, and Rest Rules to Tail-End Ferry Operations (FAA Reauthorization

Legal Authority: 49 U.S.C. 106(g); 49 U.S.C. 1153; 49 U.S.C. 40101; 49 U.S.C. 40102; 49 U.S.C. 40103; 49 U.S.C. 40113; 49 U.S.C. 41706; 49 U.S.C. 44105; 49 U.S.C. 44106; 49 U.S.C. 44111; 49 U.S.C. 44701 to 44717; 49 U.S.C. 44722; 49 U.S.C. 44901; 49 U.S.C. 44903; 49 U.S.C. 44904; 49 U.S.C. 44906; 49 U.S.C. 44912; 49 U.S.C. 44914; 49 U.S.C. 44936; 49 U.S.C. 44938; 49 U.S.C. 45101 to 45105; 49 U.S.C. 46103

Abstract: This rulemaking would require a flightcrew member who is employed by an air carrier conducting operations under part 135, and who accepts an additional assignment for flying under part 91 from the air carrier or from any other air carrier conducting operations under part 121 or 135, to apply the period of the additional assignment toward any limitation applicable to the flightcrew member relating to duty periods or flight times under part 135.

Timetable:

Action | Date | FR Cite
ANPRM | 06/00/16

Regulatory Flexibility Analysis Required: Yes.

Agency Contact: Dale Roberts, Department of Transportation, Federal Aviation Administration, 800 Independence Avenue SW., Washington, DC 20591, Phone: 202 267-5749, Email: dale.roberts@faa.gov.

RIN: 2120-AK26

DEPARTMENT OF TRANSPORTATION (DOT)

Federal Aviation Administration (FAA)

Proposed Rule Stage

338. +Airport Safety Management System

Regulatory Plan: This entry is Seq. No. 87 in part II of this issue of the Federal Register.

RIN: 2120-AJ38

339. +Applying the Flight, Duty, and Rest Requirements to Ferry Flights That Follow Domestic, Flag, or Supplemental All-Cargo Operations (Reauthorization)

Legal Authority: 49 U.S.C. 106(g); 49 U.S.C. 40113; 49 U.S.C. 40119; 49 U.S.C. 41706; 49 U.S.C. 44101; 49 U.S.C. 44701; 49 U.S.C. 44702; 49 U.S.C. 44705; 49 U.S.C. 44709 to 44711; 49 U.S.C. 44713; 49 U.S.C. 44716; 49 U.S.C. 44717

Abstract: This rulemaking would require a flightcrew member who accepts an additional assignment for flying under part 91 from the air carrier or from any other air carrier conducting operations under part 121 or 135 of such title, to apply the period of the additional assignment toward any limitation applicable to the flightcrew member relating to duty periods or flight times. This rule is necessary as it will make part 121 flight, duty, and rest limits applicable to tail-end ferries that follow an all-cargo flight.

Timetable:

Action | Date | FR Cite
NPRM | 06/00/16

Regulatory Flexibility Analysis Required: Yes.

Agency Contact: Dale Roberts, Department of Transportation, Federal Aviation Administration, 800 Independence Avenue SW., Washington, DC 20591, Phone: 202 267-5749, Email: dale.roberts@faa.gov.

RIN: 2120-AK22

340. +Revision of Airworthiness Standards for Normal, Utility, Acrobatic, and Commuter Category Airplanes

Regulatory Plan: This entry is Seq. No. 89 in part II of this issue of the Federal Register.

RIN: 2120-AK65

DEPARTMENT OF TRANSPORTATION (DOT)

Federal Aviation Administration (FAA)

Final Rule Stage

341. +Operation and Certification of Small Unmanned Aircraft Systems

Regulatory Plan: This entry is Seq. No. 90 in part II of this issue of the Federal Register.

RIN: 2120-AJ60

342. Changing the Collective Risk Limits for Launches and Reentries and Clarifying the Risk Limit Used To Establish Hazard Areas for Ships and Aircraft

Legal Authority: 51 U.S.C. 50901 to 50923

Abstract: This rulemaking would revise the collective risk limits for commercial launches and reentries. With this rulemaking, the FAA would separate its expected-number-of-casualties limits for launches and reentries. For commercial launches, the FAA would aggregate the expected-number-of-casualties posed by the following hazards: (1) Impacting inert and explosive debris, (2) toxic release, and (3) far field blast overpressure to one times ten to the minus four. This rulemaking would also clarify the regulatory requirements concerning hazard areas for ships and aircraft.

Timetable:

Action | Date | FR Cite
NPRM | 07/21/14 | 79 FR 42241
NPRM Comment Period End | 10/20/14
Final Rule | 06/00/16

Regulatory Flexibility Analysis Required: Yes.

Agency Contact: Rene Rey, Licensing and Safety Division, Office of Commercial Space, Department of Transportation, Federal Aviation Administration, 800 Independence Avenue SW., Washington, DC 20590, Phone: 202 267-7538, Email: rene.rey@faa.gov.

RIN: 2120-AK06

343. Flight Simulation Training Device (FSTD) Qualification Standards for Extended Envelope and Adverse Weather Event Training

Legal Authority: 49 U.S.C. 106(g); 49 U.S.C. 40113; 49 U.S.C. 44701; Pub. L. 111-216

Abstract: This rulemaking would amend evaluation qualifications for simulators to ensure the simulators are technically capable of performing new flight training tasks as identified in the Airline Safety and Federal Aviation Administration Extension Act of 2010 (Pub. L. 111-216) and that are included in a separate rulemaking (2120-AJ00). By ensuring the simulators provide an accurate and realistic simulation, this rulemaking would allow for training on the following tasks: (1) Full/aerodynamic stall, and (2) upset recognition and recovery, as identified in Pub. L. 111-216. Furthermore, this rulemaking would improve the minimum FSTD evaluation requirements for gusting crosswinds (takeoff/landing), engine and airframe icing, and bounced landing recovery methods in response to NTSB and Aviation Rulemaking Committee recommendations. The intended effect is to ensure an adequate level of simulator fidelity.

Timetable:

Action | Date | FR Cite
NPRM | 07/10/14 | 79 FR 39461
NPRM Comment Period Extended | 09/16/14 | 79 FR 55407
NPRM Comment Period End | 10/08/14
Comment Period Extended | 01/06/15
Final Rule | 03/00/16

Regulatory Flexibility Analysis Required: Yes.

Agency Contact: Larry McDonald, Department of Transportation, Federal Aviation Administration, PO Box 20636, Atlanta, GA 30320, Phone: 404-474-5620, Email: larry.e.mcdonald@faa.gov.

RIN: 2120-AK08

344. Acceptance Criteria for Portable Oxygen Concentrators Used Onboard Aircraft (RRR)

Legal Authority: 49 U.S.C. 106(f); 49 U.S.C. 106(g); 49 U.S.C. 1155; 49 U.S.C. 40103; 49 U.S.C. 40105; 49 U.S.C. 40109; 49 U.S.C. 40113; 49 U.S.C. 40119; 49 U.S.C. 40120; 49 U.S.C. 41706; 49 U.S.C. 44101; 49 U.S.C. 44110; 49 U.S.C. 44111; 49 U.S.C. 44502; 49 U.S.C. 44701; 49 U.S.C. 44702; 49 U.S.C. 44704; 49 U.S.C. 44705; 49 U.S.C. 44709 to 44713; 49 U.S.C. 44715 to 44717; 49 U.S.C. 44722; 49 U.S.C. 45101 to 45105; 49 U.S.C. 46102; 49 U.S.C. 46105; 49 U.S.C. 46306; 49 U.S.C. 46315; 49 U.S.C. 46316; 49 U.S.C. 46504; 49 U.S.C. 46506; 49 U.S.C. 46507; 49 U.S.C. 47122; 49 U.S.C. 47508; 49 U.S.C. 47528 to 47531; 61 Stat. 1180—articles 12 and 29

Abstract: This rulemaking would establish FAA acceptance criteria for portable oxygen concentrators (POC) used by passengers in air carrier operations, commercial operations, and certain other operations using large aircraft. To identify POCs that satisfy the FAA acceptance criteria, POC manufacturers will affix a label on the exterior of the device. With the establishment of POC acceptance criteria, the FAA will discontinue the use of Special Federal Aviation Regulation (SFAR) No. 106 (“the SFAR”), removing it from title 14, of the Code of Federal Regulations (14 CFR) parts 121, 125, and 135. POCs currently identified in the SFAR will continue to be identified in the regulatory text of the final rule as approved for use on aircraft and will not require a label prior to use.

Timetable:

Action | Date | FR Cite
NPRM | 09/19/14 | 79 FR 56288
NPRM Comment Period End | 11/18/14
Final Rule | 01/00/16

Regulatory Flexibility Analysis Required: Yes.

Agency Contact: Denise K Deaderick, Air Transportation Division, Department of Transportation, Federal Aviation Administration, 800 Independence Avenue SW., Washington, DC 20591, Phone: 202 267-8166, Email: dk.deaderick@faa.gov.

RIN: 2120-AK32

345. Reciprocal Waivers of Claims for Licensed or Permitted Launch and Reentry Activities (RRR)

Legal Authority: 49 U.S.C. 322; 51 U.S.C. 50910 to 50923

Abstract: This rulemaking would extend the waiver of claims for all the customers involved in a launch or reentry, amend the requirement describing which entities are required to sign the statutorily-mandated waiver of claims, and add a new waiver template for the customer's use. This rulemaking would ease the administrative burden on the customers, licensees, permittees, and the FAA, especially when a new customer is added only a short time before the scheduled launch or reentry.

Timetable:

Action | Date | FR Cite
NPRM | 01/13/15 | 80 FR 2015
NPRM Comment Period End | 03/16/15
NPRM Comment Period Reopened | 06/15/15 | 80 FR 34110
Comment Period End | 07/15/15
Final Rule | 05/00/16

Regulatory Flexibility Analysis Required: Yes.

Agency Contact: Shirley McBride, Department of Transportation, Federal Aviation Administration, 800 Independence Avenue SW., Washington, DC 20591, Phone: 202 267-7470, Email: shirley.mcbride@faa.gov.

RIN: 2120-AK44

DEPARTMENT OF TRANSPORTATION (DOT)

Federal Aviation Administration (FAA)

Long-Term Actions

346. • +Requirements To File Notice of Construction of Meteorological Evaluation Towers and Other Renewable Energy Projects (Section 610 Review)

Legal Authority: 49 U.S.C. 40103

Abstract: This rulemaking would add specific requirements for proponents who wish to construct meteorological evaluation towers and other renewable energy projects at or above 100 feet, technologies, to file notice with the FAA of proposal prior to construction.

Timetable:

Action | Date | FR Cite
NPRM | 02/00/17

Regulatory Flexibility Analysis Required: No.

Agency Contact: David Maddox, Department of Transportation, Federal Aviation Administration, 800 Independence Avenue SW., Washington, DC 20591, Phone: 202 267-7414, Email: david.maddox@faa.gov.

RIN: 2120-AK77

DEPARTMENT OF TRANSPORTATION (DOT)

Federal Aviation Administration (FAA)

Completed Actions

347. +Prohibition Against Certain Flights Within the Baghdad (ORBB) Flight Information Region (FIR) Amendment

Legal Authority: 126 Stat. 11; 49 U.S.C. 106(f); 49 U.S.C. 106(g); 49 U.S.C. 1155; 49 U.S.C. 40101; 49 U.S.C. 40103; 49 U.S.C. 40105; 49 U.S.C. 40113; 49 U.S.C. 40120; 49 U.S.C. 44101; 49 U.S.C. 44111; 49 U.S.C. 44701; 49 U.S.C. 44704; 49 U.S.C. 44709; 49 U.S.C. 44711; 49 U.S.C. 44712; 49 U.S.C. 44715; 49 U.S.C. 44716; 49 U.S.C. 44717; 49 U.S.C. 44722; 49 U.S.C. 46306; 49 U.S.C. 46315; 49 U.S.C. 46316; 49 U.S.C. 46504; 49 U.S.C. 46506; 49 U.S.C. 46507; 49 U.S.C. 47122; 49 U.S.C. 47508; 49 U.S.C. 47528 to 47531; 49 U.S.C. 47534; 61 Stat. 1180

Abstract: This action amends Special Federal Aviation Regulation (SFAR) No. 77, section 91.1605, Prohibition Against Certain Flights Within the Territory and Airspace of Iraq, which prohibits certain flight operations in the territory and airspace of Iraq by all United States (U.S.) air carriers, U.S. commercial operators, persons exercising the privileges of a U.S. airman certificate, except when such persons are operating a U.S. registered civil aircraft for a foreign air carrier, and operators of U.S. registered civil aircraft, except when such operators are foreign air carriers. On August 8, 2014, the FAA issued a Notice-to-Airmen (NOTAM) prohibiting flight operations in the ORBB FIR at all altitudes, subject to certain limited exceptions, due to the armed conflict in Iraq. This amendment to SFAR No. 77, section 91.1605, incorporates the flight prohibition set forth in the August 8, 2014, NOTAM into the rule. The FAA is also making technical corrections to a previously published amendment to SFAR No. 77, section 91.1605, revising the approval process for this SFAR for other U.S. Government departments, agencies, and instrumentalities, to make it more similar to the approval process for other recently published flight prohibition SFARs, and adding an expiration date.

Timetable:

Action | Date | FR Cite
Final Action | 05/11/15 | 80 FR 26822
Final Action Effective | 05/11/15

Regulatory Flexibility Analysis Required: Yes.

Agency Contact: Michael E Filippell, Department of Transportation, Federal Aviation Administration, 800 Independence Ave SW., Washington, DC 20591, Phone: 202 267-4129, Email: michael.e.filippell@faa.gov.

RIN: 2120-AK60

BILLING CODE 4910-13-P

DEPARTMENT OF TRANSPORTATION (DOT)

Federal Motor Carrier Safety Administration (FMCSA)

Proposed Rule Stage

348. +Carrier Safety Fitness Determination

Regulatory Plan: This entry is Seq. No. 94 in part II of this issue of the Federal Register.

RIN: 2126-AB11

349. +Entry-Level Driver Training (Section 610 Review)

Regulatory Plan: This entry is Seq. No. 95 in part II of this issue of the Federal Register.

RIN: 2126-AB66

DEPARTMENT OF TRANSPORTATION (DOT)

Federal Motor Carrier Safety Administration (FMCSA)

Final Rule Stage

350. +Commercial Driver's License Drug and Alcohol Clearinghouse (MAP-21)

Regulatory Plan: This entry is Seq. No. 96 in part II of this issue of the Federal Register.

RIN: 2126-AB18

351. +Electronic Logging Devices and Hours of Service Supporting Documents (MAP-21) (RRR)

Legal Authority: 49 U.S.C. 31502; 31136(a); Pub. L. 103.311; 49 U.S.C. 31137(a)

Abstract: This rulemaking would establish: (1) Minimum performance and design standards for hours-of-service (HOS) electronic logging devices (ELDs); (2) requirements for the mandatory use of these devices by drivers currently required to prepare HOS records of duty status (RODS); (3) requirements concerning HOS supporting documents; and (4) measures to address concerns about harassment resulting from the mandatory use of ELDs.

Timetable:

Action | Date | FR Cite
NPRM | 02/01/11 | 76 FR 5537
NPRM Comment Period End | 02/28/11
NPRM Comment Period Extended | 03/10/11 | 76 FR 13121
NPRM Comment Period Extended End | 05/23/11
SNPRM | 03/28/14 | 79 FR 17656
SNPRM Comment Period End | 05/27/14
Final Rule | 11/00/15

Regulatory Flexibility Analysis Required: Yes

Agency Contact: Brian Routhier, Department of Transportation, Federal Motor Carrier Safety Administration, 1200 New Jersey Avenue SE., Washington, DC 20590, Phone: 202 366-1225, Email: brian.routhier@dot.gov.

RIN: 2126-AB20

DEPARTMENT OF TRANSPORTATION (DOT)

Completed Actions

Federal Motor Carrier Safety Administration (FMCSA)

352. +Lease and Interchange of Vehicles; Motor Carriers of Passengers

Legal Authority: 49 U.S.C. 13301; 49 U.S.C. 31136; 49 U.S.C. 31502

Abstract: This rule would adopt regulations governing the lease and interchange of passenger-carrying commercial motor vehicles (CMVs) to: (1) Identify the motor carrier operating a passenger-carrying CMV and responsible for compliance with the Federal Motor Carrier Safety Regulations (FMCSRs) and all other applicable Federal regulations; and (2) ensure that a lessor surrenders control of the CMV for the full term of the lease or temporary exchange of CMVs and drivers. This action is necessary to ensure that unsafe passenger carriers cannot evade FMCSA oversight and enforcement by operating under the authority of another carrier that exercises no actual control over those operations. This action will enable the FMCSA, the National Transportation Safety Board (NTSB), and our Federal and State partners to identify motor carriers transporting passengers in interstate commerce and correctly assign responsibility to these entities for regulatory violations during inspections, compliance investigations, and crash studies. It also would provide the general public with the means to identify the responsible motor carrier at the time of transportation. While detailed lease and interchange regulations for cargo-carrying vehicles have been in effect since 1950, this final rule for passenger-carrying CMVs is focused entirely on operational safety.

Timetable:

Action | Date | FR Cite
NPRM | 09/20/13 | 78 FR 57822
NPRM Comment Period End | 11/19/13
Final Rule | 05/27/15 | 80 FR 30164
Final Rule Effective | 06/27/15

Regulatory Flexibility Analysis Required: Yes.

Agency Contact: Peter Chandler, Department of Transportation, Federal Motor Carrier Safety Administration, 1200 New Jersey Avenue SE., Washington, DC 20590, Phone: 202 366-5763, Email: peter.chandler@dot.gov.

RIN: 2126-AB44

BILLING CODE 4910-EX-P

DEPARTMENT OF TRANSPORTATION (DOT)

Federal Railroad Administration (FRA)

Proposed Rule Stage

353. +Passenger Equipment Safety Standards Amendments

Legal Authority: 49 U.S.C. 20103

Abstract: This rulemaking would amend 49 CFR part 238 to update existing safety standards for passenger rail equipment. Specifically, the proposed rulemaking would add standards for alternative compliance with requirements for Tier I passenger equipment, increase the maximum authorized speed for Tier II passenger equipment, and add requirements for a new Tier III category of passenger equipment.

Timetable:

Action | Date | FR Cite
NPRM | 02/00/16

Regulatory Flexibility Analysis Required: Yes.

Agency Contact: Kathryn Shelton, Trial Attorney, Department of Transportation, Federal Railroad Administration, 1200 New Jersey Avenue SE., Washington, DC 20590, Phone: 202 493-6063, Email: kathryn.shelton@dot.gov.

RIN: 2130-AC46

354. +Train Crew Staffing and Location

Legal Authority: 28 U.S.C. 2461, note; 49 CFR 1.89; 49 U.S.C. 20103; 49 U.S.C. 20107; 49 U.S.C. 21301 and 21302; 49 U.S.C. 21304

Abstract: This rulemaking would add minimum requirements for the size of different train crew staffs depending on the type of operation. The minimum crew staffing requirements would reflect the safety risks posed to railroad employees, the general public, and the environment. This rulemaking would also establish minimum requirements for the roles and responsibilities of the second train crew member on a moving train, and promote safe and effective teamwork. Additionally, this rulemaking would permit a railroad to submit information to FRA and seek approval if it wants to continue an existing operation with a one-person train crew or start up an operation with less than two crew members.

Timetable:

Action | Date | FR Cite
NPRM | 11/00/15

Regulatory Flexibility Analysis Required: Yes.

Agency Contact: Kathryn Shelton, Trial Attorney, Department of Transportation, Federal Railroad Administration, 1200 New Jersey Avenue SE., Washington, DC 20590, Phone: 202 493-6063, Email: kathryn.shelton@dot.gov.

RIN: 2130-AC48

BILLING CODE 4910-06-P

DEPARTMENT OF TRANSPORTATION (DOT)

Pipeline and Hazardous Materials Safety Administration (PHMSA)

Proposed Rule Stage

355. +Pipeline Safety: Safety of On-Shore Liquid Hazardous Pipelines

Regulatory Plan: This entry is Seq. No. 101 in part II of this issue of the Federal Register.

RIN: 2137-AE66

356. +Pipeline Safety: Amendments to Parts 192 and 195 To Require Valve Installation and Minimum Rupture Detection Standards

Legal Authority: 49 U.S.C. 60101 et seq.et seq.

Abstract: This rule would propose installation of automatic shutoff valves, remote controlled valves, or equivalent technology and establish performance based meaningful metrics for rupture detection for gas and liquid transmission pipelines. The overall intent is that rupture detection metrics will be integrated with ASV and RCV placement with the objective of improving overall incident response. Rupture response metrics would focus on mitigating large, unsafe, uncontrolled release events that have a greater potential consequence. The areas proposed to be covered include High Consequence Areas (HCA) for hazardous liquids and HCA, Class 3 and 4 for natural gas (including could affect areas).

Timetable:

Action | Date | FR Cite
NPRM | 10/00/16

Regulatory Flexibility Analysis Required: Yes.

Agency Contact: Lawrence White, Attorney-Advisor, Department of Transportation, Pipeline and Hazardous Materials Safety Administration, 400 Seventh Street SW., Washington, DC 20590, Phone: 202 366-4400, Fax: 292 366-7041.

RIN: 2137-AF06

357. +Hazardous Materials: Oil Spill Response Plans and Information Sharing for High-Hazard Flammable Trains

Regulatory Plan: This entry is Seq. No. 103 in part II of this issue of the Federal Register.

RIN: 2137-AF08

DEPARTMENT OF TRANSPORTATION (DOT)

Pipeline and Hazardous Materials Safety Administration (PHMSA)

Final Rule Stage

358. Pipeline Safety: Issues Related to the Use of Plastic Pipe in Gas Pipeline Industry

Legal Authority: 49 U.S.C. 60101 et seq.

Abstract: This rulemaking would address a number of topics related to the use of plastic pipe in the gas pipeline industry. These topics include certain newer types of plastic pipe such as PE (polyethylene), PA11 (polyamide 11), PA12 (polyamide 12), 50-year markings, design factors, risers, incorporation by reference of certain plastic pipe related standards, and tracking and traceability.

Timetable:

Action | Date | FR Cite
NPRM | 05/21/15 | 80 FR 29263
NPRM Comment Period End | 07/31/15
Final Rule | 06/00/16

Regulatory Flexibility Analysis Required: Yes.

Agency Contact: Cameron H. Satterthwaite, Transportation Regulations Specialist, Department of Transportation, Pipeline and Hazardous Materials Safety Administration, 1200 New Jersey Avenue SE., Washington, DC 20590, Phone: 202 366-8553, Email: cameron.satterthwaite@dot.gov.

RIN: 2137-AE93

359. Pipeline Safety: Operator Qualification, Cost Recovery, Accident and Incident Notification, and Other Changes (RRR)

Legal Authority: 49 U.S.C. 60101 et seq.

Abstract: This rulemaking would address miscellaneous issues that have been raised because of the reauthorization of the pipeline safety program in 2012 and petitions for rulemaking from many affected stakeholders. Some of the issues that this rulemaking would address include: renewal process for special permits, cost recovery for design reviews, and incident reporting.

Timetable:

Action | Date | FR Cite
NPRM | 07/10/15 | 80 FR 39915
NPRM Comment Period End | 09/08/15
Final Rule | 06/00/16

Regulatory Flexibility Analysis Required: Yes.

Agency Contact: John Gale, Director Standards and Rulemaking, Department of Transportation, Pipeline and Hazardous Materials Safety Administration, 1200 New Jersey Avenue SE., Washington, DC 20590, Phone: 202 366-0434, Email: john.gale@dot.gov.

RIN: 2137-AE94

DEPARTMENT OF TRANSPORTATION (DOT)

Pipeline and Hazardous Materials Safety Administration (PHMSA)

Completed Actions

360. +Hazardous Materials: Enhanced Tank Car Standards and Operational Controls for High-Hazard Flammable Trains

Legal Authority: 49 U.S.C. 5101 et seq.

Abstract: This rulemaking would amend operational requirements for certain trains transporting a large volume of flammable materials, provide improvements in tank car standards, and revise the general requirements for offerors to ensure proper classification and characterization of mined gases and liquids. These new requirements are designed to lessen the consequences of derailments involving ethanol, crude oil, and certain trains transporting a large volume of flammable materials. The growing reliance on trains to transport large volumes of flammable materials poses a significant risk to life, property, and the environment. The proposed changes also address National Transportation Safety Board (NTSB) recommendations on accurate classification, enhanced tank cars, rail routing, oversight, and adequate response capabilities.

Timetable:

Action | Date | FR Cite
ANPRM | 09/06/13 | 78 FR 54849
ANPRM Comment Period End | 11/05/13
Comment Period Extended | 11/05/13 | 78 FR 66326
Comment Period End | 12/05/13
NPRM | 08/01/14 | 79 FR 45015
NPRM Comment Period End | 09/30/14
Final Rule | 05/08/15 | 80 FR 26643
Final Rule Effective | 07/07/15

Regulatory Flexibility Analysis Required: Yes.

Agency Contact: Ben Supko, Transportation Regulations Specialist, Department of Transportation, Pipeline and Hazardous Materials Safety Administration, 1200 New Jersey Avenue SE., Washington, DC 20590, Phone: 202 366-8553, Email: ben.supko@dot.gov.

RIN: 2137-AE91

BILLING CODE 4910-60-P

DEPARTMENT OF TRANSPORTATION (DOT)

Maritime Administration (MARAD)

Proposed Rule Stage

361. +Cargo Preference

Legal Authority: 49 CFR 1.66; 46 app. U.S.C. 1101; 46 app U.S.C. 1241; 46 U.S.C. 2302 (e)(1); Pub. L. 91-469

Abstract: This rulemaking would revise and clarify the cargo preference regulations that have not been revised substantially since 1971. The rulemaking would also implement statutory changes, including section 3511, Public Law 110-417, of The National Defense Authorization Act for FY 2009, which provides enforcement authority.

Timetable:

Action | Date | FR Cite
NPRM | 11/00/15

Regulatory Flexibility Analysis Required: Yes.

Agency Contact: Christine Gurland, Department of Transportation, Maritime Administration, 1200 New Jersey Avenue SE., Washington, DC 20590, Phone: 202 366-5157, Email: christine.gurland@dot.gov.

RIN: 2133-AB74

[FR Doc. 2015-31008 Filed 12-14-15; 8:45 am]

BILLING CODE 4910-81-P